DEPARTMENT OF TRANSPORTATION

Federal Aviation Administration

Public Notice for Waiver of Aeronautical Land-Use Assurance; Jackson County-Reynolds Airport, Jackson, MI

AGENCY: Federal Aviation Administration, DOT.

ACTION: Notice of intent of waiver with respect to land.

SUMMARY: The Federal Aviation Administration (FAA) is considering a proposal to change a portion of the airport land from aeronautical use to non-aeronautical use. The proposal consists of one parcel of land, totaling approximately 15.8 acres. Current use and present condition is vacant grassland. There are no impacts to the airport by allowing the airport to lease the property. The land was acquired through a warranty deed to Jackson County Airport from the Michigan Department of Highways on January 12, 1978; then conveyed to the County of Jackson when the City of Jackson sold the airport to the County on March 24, 1983. Approval does not constitute a commitment by the FAA to financially assist in the lease of the subject airport property nor a determination that all measures covered by the program are eligible for Airport Improvement Program funding from the FAA. The disposition of proceeds from the lease of the airport property will be in accordance with the FAA Policy and Procedures Concerning the Use of Airport Revenue, published in the Federal Register on February 16, 1999. This proposal is for approximately 15.8 acres in total.

In accordance with section 47107(h) of title 49, United States Code, this notice is required to be published in the Federal Register 30 days before modifying the land-use assurance that requires the property to be used for an aeronautical purpose. The proposed land will be leased to allow for a new commercial development to accommodate the construction of a 203,750 square foot building for commercial retail development. The proposed land is North of I-94 and West of US 127 in the extended approach to Runway 24. Proposed building will not exceed 35 feed above ground level at the site including light standards according to current Blackman Township Zoning Ordinances. A maximum allowable of 50 feet of height is the limit allowed by the Airport Zoning Ordinance. The proposed property is not contiguous to the airport itself. The location does not impact current safety areas of future airport development. The proceeds from the lease of land will be used for airport improvements and operation expenses at Jackson County-Reynolds Airport.

DATES: Comments must be received on or before September 7, 2001.

FOR FURTHER INFORMATION CONTACT: Mr. Gary Migut, Federal Aviation Administration, Great Lakes Region, Detroit Airports District Office, DET ADO-650.2, Willow Run Airport, East, 8820 Beck Road, Belleville, Michigan 48111, (734) 487-7278. Documents reflecting this FAA action may be reviewed at this same location or at Jackson County-Reynolds Airport, Jackson, Michigan.

SUPPLEMENTARY INFORMATION: Following are legal descriptions of the property:

LAND IN SECTION 28, TOWN 2 SOUTH, RANGE 1 WEST, BLACKMAN TOWNSHIP, JACKSON COUNTY, MICHIGAN, described as follows:to-wit: That part of the following described land lying East of a line which is 200.0′ West of the Southeast corner of the Recorded Plat of BERTON WOODS SUBDIVISION NO. 2 and parallel with the North & South ¼ line of said Section 28: All that part of the Southeast ¼ of the Northeast ¼ and West 123′ of the Southwest ¼ of the Northeast ¼ of Section 28, Town 2 South, Range 1 West, Blackman Township, Jackson County, Michigan, which lies Northwesterly of a line described as: Commencing at the North ¼ corner of said Section 28, thence N-89°-47′-33″-E along the North line of said Section 28, a distance of 745.49′, thence S-28°-36′-04″-E, 1153.73′ to the POINT OF BEGINNING, thence S-61°-23′-56″-W, 218.13′ thence S-39°-50′-20″-W, 681.81′, thence S-54°-58′-50″-W, 559.67′ thence S-67°-22′-11″-W, 285.25′, thence S-71°-22′-56″-W, 794.42′ to the point of curvature of a 5579.65′ radius curve to the right (chord bearing S-80°-42′-46″-W); thence Southwesterly along the arc of said curve 1817.28′ to a point of ending. Containing 15.8 acres, more or less.

Issued in Belleville, Michigan, May 15, 2001.
Irene R. Porter,
Manager, Detroit Airports District Office, Great Lakes Region.

[FR Doc. 01-19368 Filed 8-7-01; 8:45 am]

BILLING CODE 4910-13-M